DEPARTMENT OF TRANSPORTATION

Federal Aviation Administration

Availability of Draft Alternatives Working Paper for the Proposed Southern Nevada Supplemental Airport, Las Vegas, Clark County, NV

AGENCY: Federal Aviation Administration.

ACTION: Notice of Availability of Draft Alternatives Working Paper.

SUMMARY: The Federal Aviation Administration (FAA) in cooperation with the Bureau of Land Management (BLM) is issuing this notice to advise the public the Draft Alternatives Working Paper for the Draft EIS will be made available for public comment pursuant to section 304 of the Vision 100 Century of Aviation Act of 2003 (Pub. L. 108-176) [49 U.S.C. 47171(I)]. The Draft Alternatives Working Paper has been prepared for the construction and operation of the proposed Southern Nevada Supplemental Airport which lies partially within the base floodplain of a portion of Roach Dry Lake located along Interstate Highway 15 about 30 miles south of Las Vegas, Clark County, Nevada. FAA and BLM are seeking comments on the Draft Alternatives Working Paper.

FOR FURTHER INFORMATION CONTACT: David B. Kessler, AICP, Project Manager, Southern Nevada Supplemental Airport EIS, AWP-610.1, Airports Division, Federal Aviation Administration, Western-Pacific Region, P.O. Box 92007, Los Angeles, California 90009-2007, Telephone: 310/725-3615. Comments on the draft Alternatives Working Paper should be submitted to the address above and must be received no later than 5 p.m. Pacific Standard Time, Friday, October 3, 2008.

SUPPLEMENTARY INFORMATION: The Federal Aviation Administration (FAA) in cooperation with the Bureau of Land Management (BLM) is preparing a Draft Environmental Impact Statement for the proposed Southern Nevada Supplemental Airport (SNSA) pursuant to the National Environmental Policy Act of 1969. The need to prepare an Environmental Impact Statement (EIS) is based on the procedures described in FAA Order 1050.1E, Environmental Impacts: Policies and Procedures, FAA Order 5050.4B, National Environmental Policy Act (NEPA) Implementing Instructions for Airport Actions, and BLM NEPA Handbook H-1790-1. Further, the FAA and BLM are preparing this EIS jointly pursuant to the Ivanpah Valley Airport Lands Transfer Act of 2000, (Pub. L. 106-362). Clark County proposes to build the airport along Interstate Highway 15 north of the Nevada/California border about 30 miles south of Las Vegas, between Primm and Jean in Clark County, Nevada. The purpose of the proposed airport is to provide additional capacity to accommodate the forecasted growth in air carrier aircraft operations and aviation passenger demand into the Las Vegas area. This airport would supplement existing capacity at McCarran International Airport (LAS).

FAA and BLM are making the Draft Alternatives Working Paper available to the public and governmental agencies for review and comment. This working paper contains information that the FAA and BLM will include into the Alternatives Section of the Draft EIS. FAA and BLM have developed the Alternatives Working Paper based on information disclosed in the Purpose and Need Working Paper that was made available to the public on January 25, 2008 (73 FR 4666-4667). The following general candidate alternative topics are included in the Draft Alternatives Working Paper: No Action, Other Modes of Transportation, Air Traffic Demand Management Strategies, Use of Airfield and Airspace Technologies, Expansion of McCarran International Airport, Use of Other Existing Airports in the Region, and Develop a New Airport. Several of these candidate alternatives have multiple sub-candidates that are evaluated in the Draft Alternatives Working Paper.

Pursuant to U.S. Department of Transportation Order 5650.2, Floodplain Management and Protection, the FAA is also notifying the public that Clark County's proposed action may create a significant encroachment into the base floodplain for Roach Dry Lake. Roach Dry Lake is located east of Interstate 15 north of Primm and South of Jean, Nevada. Roach Dry Lake is the terminus of various unnamed ephemeral and semi-permanent streams. Roach Dry Lake also receives storm-related surface sheet flow from alluvial fans and surrounding mountainous areas. Clark County's proposed action would modify the shape of the dry lake bed and its margin terrace to accommodate the construction of the proposed airport. The proposed airport would be constructed on an earthen platform that would elevate the new airport above the water level that occurs in the dry lake following a storm event. This earthen platform may affect the natural and beneficial floodplain value of Roach Dry Lake by altering the total surface area usable for ground water infiltration and recharge. FAA and BLM expect the function of the Roach Dry Lake playa to be more clearly defined following completion of the Affected Environment section of the Draft Environmental Impact Statement. Clark County is developing a flash flood/drainage plan to manage storm water runoff into Roach Dry Lake that will be evaluated in the Draft Environmental Impact Statement. Clark County is seeking federal approval of the Airport Layout Plan for the proposed new airport. FAA anticipates Clark County seeking federal funding assistance for the proposal as well. However, FAA has not received an application for federal assistance to construct the proposed new airport from Clark County.

The Draft Alternatives Working Paper also identifies other candidate alternatives that may have encroachments into base floodplains. FAA and BLM will consider all comments received for the purpose of developing future documents supporting the Draft EIS. FAA and BLM will accept comments on the Draft Alternatives Working Paper until 5 p.m. Pacific Standard Time, Friday, October 3, 2008.

Copies of the Draft Alternatives Working Paper are available for public review at the following locations during normal business hours:

U.S. Department of Transportation, Federal Aviation Administration, Western-Pacific Region, Office of the Airports Division, 15000 Aviation Boulevard, Hawthorne, California 90261.

U.S. Department of Transportation, Federal Aviation Administration, National Headquarters, Office of Airports, Planning and Environmental Needs Division, 800 Independence Avenue, SW., Washington, DC 20591.

Bureau of Land Management, Las Vegas Field Office, 4701 North Torrey Pines, Las Vegas, Nevada 89130.

The document is also available for public review at the following libraries and other locations and at the following Web site: http://www.snvairporteis.com:

Boulder City Public Library, 701 Adams Boulevard, Boulder City, Nevada 89005.

Gibson Library, 280 South Water Street, Henderson, Nevada 89015-7288.

Pittman Library, 1608 Moser Drive, Henderson, Nevada 89015-4323.

Paseo Verde Library, 280 South Green Valley Parkway, Henderson, Nevada 89012-2301.

Malcolm Library, 2960 Sunridge Heights Parkway, Henderson, Nevada 89052.

Clark County Law Library, 309 South 3rd Street, Suite 400, Las Vegas, Nevada 89155.

Lied Library—UNLV, 4505 Maryland Parkway, Las Vegas, Nevada 89104.

UNLV Libraries Government Publications, 4505 Maryland Parkway, Las Vegas, Nevada 89101.

Nevada State Library and Archives, 716 N. Carson Street, Suite B, Carson City, Nevada 89701.

North Las Vegas Library District, 2300 Civic Center Drive, North Las Vegas, Nevada 89030-5839.

Aliante Branch Library, 2400 Deer Springs Way, North Las Vegas, Nevada 89084.

Pahrump Community Library District, 701 East Street, Pahrump, Nevada 89048-0578.

White Pine County Library, 950 Campton Street, Ely, Nevada 89301-1965.

Clark County Library, 1401 East Flamingo Road, Las Vegas, Nevada 89119-5256.

Goodsprings Library, 365 West San Pedro Avenue, Goodsprings, Nevada 89019-0667.

Lincoln County Library, 63 Main Street, P.O. Box 330, Pioche, Nevada 89043-0330.

Alamo Branch Library, 100 South First West, P.O. Box 239, Alamo, Nevada 89001-0239.

Caliente Branch Library, 100 Depot Avenue, P.O. Box 306, Caliente, Nevada 89008-0306.

Searchlight Library, 200 Michael Wendal Way, Searchlight, Nevada 89046.

Sandy Valley Library, 650 W. Quartz Avenue, Sandy Valley, Nevada 89019.

Mt. Charleston Library, 1252 Aspen Avenue, Las Vegas, Nevada 89124.

Moapa Valley Library, 350 N. Moapa Valley Blvd., Overton, Nevada 89040.

Laughlin Library, 2840 S. Needles Hwy., Laughlin, Nevada 89020.

Blue Diamond Library, 14 Cottonwood Drive, Blue Diamond, Nevada 89004.

Moapa Town Library, 1340 E. Highway 168, Moapa, Nevada 89025.

Indian Springs Library, 715 Gretta Lane, Indian Springs, Nevada 89018.

Bunkerville Library, 150 W. Virgin Street, Bunkerville, Nevada 89007.

Mesquite Library, 121 W. First St., Mesquite, Nevada 89027.

Enterprise Library, 25 E. Shelbourne Way, Las Vegas, Nevada 89123.

Green Valley Library, 2797 N. Green Valley Parkway, Henderson, Nevada 89014.

Las Vegas Library, 833 Las Vegas Blvd. North, Las Vegas, Nevada 89101.

Meadows Library, 300 W. Boston Ave., Las Vegas, Nevada 89102.

Rainbow Library, 3150 N. Buffalo Drive, Las Vegas, Nevada 89128.

Sahara West Library, 9600 W. Sahara Avenue, Las Vegas, Nevada 89177.

Spring Valley Library, 4280 S. Jones Blvd, Las Vegas, Nevada 89103.

Sunrise Library, 5400 Harris Avenue, Las Vegas, Nevada 89110.

Summerlin Library, 1771 Inner Circle Drive, Las Vegas, Nevada 89134.

West Charleston Library, 6301 W. Charleston Blvd., Las Vegas, Nevada 89146.

West Las Vegas Library, 951 W. Lake Mead Blvd., Las Vegas, Nevada 89106.

Whitney Library, 5175 E. Tropicana Avenue, Las Vegas, Nevada 89106.

University of Nevada Las Vegas, 4505 Maryland Parkway Box 457001, Building LLB 1173, MS 7033, Las Vegas, Nevada 89154-7001.

William S. Boyd School of Law, UNLV, 4505 Maryland Parkway, Box 451003, Las Vegas, Nevada 89154-1003.

Nevada State College, 1125 Nevada State Drive, Henderson, Nevada 89015.

The Draft Alternatives Working Paper will be available for public comment for 30 days. Written comments on the Draft Alternatives Working Paper should be submitted to the address above under the heading FOR FURTHER INFORMATION CONTACT and must be received no later than 5 p.m. Pacific Standard Time, Friday, October 3, 2008.

Issued in Hawthorne, California on July 29, 2008.
Mark A. McClardy,
Manager, Airports Division, Western—Pacific Region, AWP-600.

[FR Doc. E8-17897 Filed 8-1-08; 8:45 am]

BILLING CODE 4910-13-P